ENVIRONMENTAL PROTECTION AGENCY

40 CFR Part 180

[EPA-HQ-OPP-2006-0603 FRL-8114-9]

2-Propenoic Acid, Methyl Ester, Polymer with Ethenyl Acetate, Hydrolyzed, Sodium Salts; Tolerance Exemption

Correction

In rule document E7-3118 beginning on page 8913 in the issue of Wednesday, February 28, 2007, make the following correction:

§ 180.960 [Corrected]

On page 8916, in the second column, in § 180.960, immediately following the section heading, insert five stars before the table.

[FR Doc. Z7-3118 Filed 3-2-07; 8:45 am]

BILLING CODE 1505-01-D